DEPARTMENT OF LABOR

Employment and Training Administration

[TA-W-65,046]

Detroit Diesel Remanufacturing, East Division; Byesville, OH; Notice of Termination of Investigation

Pursuant to Section 221 of the Trade Act of 1974, as amended, an investigation was initiated on January 30, 2009 in response to a petition filed by a company official on behalf of workers of Detroit Diesel Remanufacturing—East Division, Byesville, Ohio.

The petitioner has requested that the petition be withdrawn. Therefore, the investigation under this petition has been terminated.

Signed at Washington, DC, this 16th day of March, 2009.
Linda G. Poole,
Certifying Officer, Division of Trade Adjustment Assistance.

[FR Doc. E9-7132 Filed 3-30-09; 8:45 am]

BILLING CODE 4510-FN-P